DEPARTMENT OF JUSTICE

Antitrust Division

Notice Pursuant to the National Cooperative Research and Production Act of 1993—Consortium for Homeland Security Technology

Notice is hereby given that, on December 1, 2014, pursuant to Section 6(a) of the National Cooperative Research and Production Act of 1993, 15 U.S.C. 4301 et seq. (“the Act”), Consortium for Homeland Security Technology (“Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Consortium for Homeland Security Technology, Washington, DC; Chesapeake Cartridge Corporation, Blacksburg, VA; D&S Consultants, Inc., Eatontown, NJ; Interoptek, Inc., Huntsville, AL; Louisiana Tech University, Ruston, LA; OGSystems, LLC, Chantilly, VA; Protonex Technology Corporation, Southborough, MA; R3 Strategic Support Group, Inc., Coronado, CA; REK Associates, LLC, South Riding, VA; RMCU, LLC, Franklin, NC; Shoulder 2 Shoulder, Inc., Bluemont, VA; STIMULUS Engineering Services, Inc., Odon, IN; Tiburon Associates, Inc., Grand Rapids, MI; and UXB International, Blacksburg, VA.

The general area of Consortium's planned activity is to (a) enter into an Other Transaction Agreement (“OT Agreement”) with the U.S. Government (“Government”) for the funding of certain research, development, testing and evaluation of prototypes to be conducted as a collaboration between the Government and Consortium Members, to enhance the capabilities of the Government and its departments and agencies in the fields of border and maritime security; chemical and biological defense; cyber security; explosives countermeasures; first response; and resilient systems; (b) participate in the establishment of sound technical and programmatic performance goals based on the needs and requirements of the Government's Technology Objectives and create programs and secure funding for the Technology Objectives; (c) provide a unified voice to effectively articulate the global and strategically important role homeland security-enabling technologies play in current and future national security objectives; and (d) maximize the utilization of the Government's and Members' capabilities to effectively develop critical technologies which can be transitioned and commercialized.

Patricia A. Brink,
Director of Civil Enforcement, Antitrust Division.

[FR Doc. 2014-30042 Filed 12-22-14; 8:45 am]

BILLING CODE P